DEPARTMENT OF ENERGY

10 CFR Part 430

[EERE-2024-BT-STD-0002]

Energy Conservation Program: Energy Conservation Standards for Dishwashers, Residential Clothes Washers, and Consumer Clothes Dryers

AGENCY: Office of Energy Efficiency and Renewable Energy, Department of Energy.

ACTION: Request for information.

SUMMARY: In light of the United States Court of Appeals for the Fifth Circuit recently granting a petition for review of a final rule published by the U.S. Department of Energy (“DOE”) on January 19, 2022, and remanding the matter to DOE for further proceedings, DOE is initiating an information and data gathering effort on whether “short-cycle” product classes for dishwashers, residential clothes washers, and consumer clothes dryers are warranted under the Energy Policy and Conservation Act. In this request for information, DOE solicits data and information from the public to help DOE in its rulemaking to evaluate whether: products with a “short cycle” as the normal cycle are available in the market; and products with a “short cycle” as the normal cycle should be subject to different standards than products without a “short cycle” as the normal cycle.

DATES: Written comments and information are requested and will be accepted on or before April 10, 2024.

ADDRESSES: Interested persons are encouraged to submit comments using the Federal eRulemaking Portal at www.regulations.gov under docket number EERE-2024-BT-STD-0002. Follow the instructions for submitting comments. Alternatively, interested persons may submit comments may submit comments, identified by docket number EERE-2024-BT-STD-0002, by any of the following methods:

(1) Email: ShortCycle2024STD0002@ee.doe.gov. Include the docket number EERE-2024-BT-STD-0002 in the subject line of the message.

(2) Postal Mail: Appliance and Equipment Standards Program, U.S. Department of Energy, Building Technologies Office, Mailstop EE-5B, 1000 Independence Avenue SW, Washington, DC 20585-0121. Telephone: (202) 287-1445. If possible, please submit all items on a compact disc (“CD”), in which case it is not necessary to include printed copies.

(3) Hand Delivery/Courier: Appliance and Equipment Standards Program, U.S. Department of Energy, Building Technologies Office, 1000 Independence Ave. SW, Washington, DC 20585-0121. Telephone: (202) 287-1445. If possible, please submit all items on a CD, in which case it is not necessary to include printed copies.

No telefacsimiles (“faxes”) will be accepted. For detailed instructions on submitting comments and additional information on this process, see section III of this document.

Docket: The docket for this activity, which includes Federal Register notices, comments, and other supporting documents/materials, is available for review at www.regulations.gov. All documents in the docket are listed in the www.regulations.gov index. However, some documents listed in the index, such as those containing information that is exempt from public disclosure, may not be publicly available.

The docket web page can be found at www.regulations.gov/docket/EERE-2024-BT-STD-0002. The docket web page contains instructions on how to access all documents, including public comments, in the docket. See section III for information on how to submit comments through www.regulations.gov.

FOR FURTHER INFORMATION CONTACT:

Dr. Carl Shapiro, U.S. Department of Energy, Office of Energy Efficiency and Renewable Energy, Building Technologies Office, EE-5B, 1000 Independence Avenue SW, Washington, DC 20585-0121. Telephone: (202) 287-5649. Email: ApplianceStandardsQuestions@ee.doe.gov.

Mr. Pete Cochran, U.S. Department of Energy, Office of the General Counsel, GC-33, 1000 Independence Avenue SW, Washington, DC 20585-0121. Telephone: (202) 586-9496. Email: Peter.Cochran@hq.doe.gov.

For further information on how to submit a comment, or review other public comments and the docket, contact the Appliance and Equipment Standards Program staff at (202) 287-1445 or by email: ApplianceStandardsQuestions@ee.doe.gov.

SUPPLEMENTARY INFORMATION:

Table of Contents

I. Introduction

A. Authority

B. History of Rulemakings for Short-Cycle Dishwashers, Residential Clothes Washers, and Consumer Clothes Dryers

II. Request for Information and Comments

III. Submission of Comments

IV. Approval of the Office of the Secretary

I. Introduction

The following section briefly discusses the statutory authority underlying this request for information (“RFI”), as well as some of the historical background relevant to dishwashers, residential clothes washers (“RCWs”), and consumer clothes dryers.

A. Authority

The Energy Policy and Conservation Act, Public Law 94-163, as amended (“EPCA”),¹ authorizes DOE to regulate the energy efficiency of a number of consumer products and certain industrial equipment. (42 U.S.C. 6291-6317, as codified) Title III, Part B of EPCA ² established the Energy Conservation Program for Consumer Products Other Than Automobiles. (42 U.S.C. 6291-6309) These products include dishwashers, RCWs, and consumer clothes dryers, the subjects of this document. (42 U.S.C. 6292(a)(6), (7), and (8), respectively)

¹ All references to EPCA in this document refer to the statute as amended through the Energy Act of 2020, Public Law 116-260 (Dec. 27, 2020), which reflect the last statutory amendments that impact Parts A and A-1 of EPCA.

² For editorial reasons, upon codification in the U.S. Code, Part B was redesignated Part A.

The energy conservation program under EPCA consists essentially of four parts: (1) testing, (2) labeling, (3) the establishment of Federal energy conservation standards, and (4) certification and enforcement procedures. Relevant provisions of EPCA include definitions (42 U.S.C. 6291), test procedures (42 U.S.C. 6293), labeling provisions (42 U.S.C. 6294), energy conservation standards (42 U.S.C. 6295), and the authority to require information and reports from manufacturers (42 U.S.C. 6296).

Federal energy efficiency requirements for covered products established under EPCA generally supersede State laws and regulations concerning energy conservation testing, labeling, and standards. (42 U.S.C. 6297(a)-(c)) DOE may, however, grant waivers of Federal preemption in limited circumstances for particular State laws or regulations, in accordance with the procedures and other provisions set forth under EPCA. (42 U.S.C. 6297(d))

Subject to certain criteria and conditions, DOE is required to develop test procedures to measure the energy efficiency, energy use, or estimated annual operating cost of each covered product. (42 U.S.C. 6295(r)) Manufacturers of covered products must use the prescribed DOE test procedure as the basis for certifying to DOE that their product complies with the applicable energy conservation standards and as the basis for any representations regarding the energy use or energy efficiency of the product. (42 U.S.C. 6295(s) and 42 U.S.C. 6293(c)). Similarly, DOE must use these test procedures to evaluate whether a basic model complies with the applicable energy conservation standard(s). (42 U.S.C. 6295(s)). The DOE test procedures for dishwashers appear at title 10 of the Code of Federal Regulations (CFR) part 430, subpart B, appendices C1 and C2. The DOE test procedures for RCWs appear at 10 CFR part 430, subpart B, appendices J and J2. The DOE test procedures for consumer clothes dryers appear at 10 CFR part 430, subpart B, appendices D1 and D2.

EPCA prescribed energy conservation standards for dishwashers, RCWs, and consumer clothes dryers (42 U.S.C. 6295(g)(1) and (10)(A); 42 U.S.C. 6295(g)(2) and (9)(A); and 42 U.S.C. 6295(g)(3)) and directed DOE to conduct future rulemakings to determine whether to amend these standards. (42 U.S.C. 6295(g)(4) and (10)(B); 42 U.S.C. 6295(g)(4) and (9)(B); and 42 U.S.C. 6295(g)(4)) Not later than six years after the issuance of any final rule establishing or amending a standard, DOE must publish either a notice of determination (“NOPD”) that standards for the product do not need to be amended, or a NOPR including new proposed energy conservation standards (proceeding to a final rule, as appropriate). (42 U.S.C. 6295(m)(1)) DOE must make the analysis on which a NOPD or NOPR is based publicly available and provide an opportunity for written comment. (42 U.S.C. 6295(m)(2)) Not later than two years after a NOPR is issued, DOE must publish a final rule amending the energy conservation standard for the product. (42 U.S.C. 6295(m)(3)(A))

DOE must follow specific statutory criteria for prescribing new or amended standards for covered products, including dishwashers, RCWs, and consumer clothes dryers. Any new or amended standard for a covered product must be designed to achieve the maximum improvement in energy efficiency that the Secretary of Energy (“Secretary”) determines is technologically feasible and economically justified. (42 U.S.C. 6295(o)(2)(A)) Furthermore, DOE may not adopt any standard that would not result in the significant conservation of energy. (42 U.S.C. 6295(o)(3)(B))

Moreover, DOE may not prescribe a standard if DOE determines by rule that the establishment of such standard will not result in significant conservation of energy (or, for certain products, water), or is not technologically feasible or economically justified. (42 U.S.C. 6295(o)(3)(B)) In deciding whether a proposed standard is economically justified, DOE must determine whether the benefits of the standard exceed its burdens. (42 U.S.C. 6295(o)(2)(B)(i)) DOE must make this determination after receiving comments on the proposed standard, and by considering, to the greatest extent practicable, the following seven statutory factors:

(1) The economic impact of the standard on manufacturers and consumers of the products subject to the standard;

(2) The savings in operating costs throughout the estimated average life of the covered products in the type (or class) compared to any increase in the price, initial charges, or maintenance expenses for the covered products that are likely to result from the standard;

(3) The total projected amount of energy (or as applicable, water) savings likely to result directly from the standard;

(4) Any lessening of the utility or the performance of the covered products likely to result from the standard;

(5) The impact of any lessening of competition, as determined in writing by the Attorney General, that is likely to result from the standard;

(6) The need for national energy and water conservation; and

(7) Other factors the Secretary considers relevant.

(42 U.S.C. 6295(o)(2)(B)(i)(I)-(VII))

Further, EPCA, as codified, establishes a rebuttable presumption that a standard is economically justified if the Secretary finds that the additional cost to the consumer of purchasing a product complying with an energy conservation standard level will be less than three times the value of the energy savings during the first year that the consumer will receive as a result of the standard, as calculated under the applicable test procedure. (42 U.S.C. 6295(o)(2)(B)(iii))

EPCA, as codified, also contains what is known as an “anti-backsliding” provision, which prevents the Secretary from prescribing any amended standard that either increases the maximum allowable energy use or decreases the minimum required energy efficiency of a covered product. (42 U.S.C. 6295(o)(1)) Also, the Secretary may not prescribe an amended or new standard if interested persons have established by a preponderance of the evidence that the standard is likely to result in the unavailability in the United States in any covered product type (or class) of performance characteristics (including reliability), features, sizes, capacities, and volumes that are substantially the same as those generally available in the United States. (42 U.S.C. 6295(o)(4))

Additionally, EPCA specifies requirements when promulgating an energy conservation standard for a covered product that has two or more subcategories. A rule prescribing an energy conservation standard for a type (or class) of product must specify a different standard level for a type or class of products that has the same function or intended use if DOE determines that products within such group (A) consume a different kind of energy from that consumed by other covered products within such type (or class); or (B) have a capacity or other performance-related feature which other products within such type (or class) do not have and such feature justifies a higher or lower standard. (42 U.S.C. 6295(q)(1)) In determining whether a performance-related feature justifies a different standard for a group of products, DOE considers such factors as the utility to the consumer of such a feature and other factors DOE deems appropriate. Id. Any rule prescribing such a standard must include an explanation of the basis on which such higher or lower level was established. (42 U.S.C. 6295(q)(2))

Finally, pursuant to the amendments to EPCA contained in the Energy Independence and Security Act of 2007, Public Law 110-140, any final rule for new or amended energy conservation standards promulgated after July 1, 2010, is required to address standby mode and off mode energy use. (42 U.S.C. 6295(gg)(3)) Specifically, when DOE adopts a standard for a covered product after that date, it must, if justified by the criteria for adoption of standards under EPCA (42 U.S.C. 6295(o)), incorporate standby mode and off mode energy use into a single standard, or, if that is not feasible, adopt a separate standard for such energy use for that product. (42 U.S.C. 6295(gg)(3)(A)-(B)) DOE's current test procedures and standards for dishwashers, RCWs, and consumer clothes dryers address standby mode and off mode energy use.

B. History of Rulemakings for Short-Cycle Dishwashers, Residential Clothes Washers, and Consumer Clothes Dryers

The Administrative Procedure Act (“APA”), 5 U.S.C. 551 et seq., provides among other things, that “[e]ach agency shall give an interested person the right to petition for the issuance, amendment, or repeal of a rule.” (5 U.S.C. 553(e)) Pursuant to this provision of the APA, the Competitive Enterprise Institute (“CEI”) petitioned DOE for the issuance of a rule establishing a new product class under 42 U.S.C. 6295(q) that would cover dishwashers with a cycle time of less than one hour from washing through drying.³ On October 30, 2020, DOE published a final rule that established a product class for standard-size dishwashers with a cycle time for the normal cycle ⁴ of 60 minutes or less. 85 FR 68723 (“October 2020 Final Rule”).

³ Available at www.regulations.gov/document/EERE-2018-BT-STD-0005-0006.

⁴ Through the remainder of this document, DOE uses the term “normal cycle” to refer to the cycle required for test under the applicable DOE test procedure.

Following this, having determined that similarities exist between the consumer use of dishwashers, RCWs, and consumer clothes dryers (i.e., products that provide consumer utility over discrete cycles with programmed cycle times, and consumers run these cycles multiple times per week on average), DOE published a final rule on December 16, 2020, that established product classes for top-loading RCWs and certain classes of consumer clothes dryers with a cycle time of less than 30 minutes, and front-loading RCWs with a cycle time of less than 45 minutes. 85 FR 81359 (“December 2020 Final Rule”).

The October 2020 Final Rule and the December 2020 Final Rule specified that the short-cycle product classes created by their respective rules are not currently subject to energy or water conservation standards. 85 FR 68723, 68742; 85 FR 81359, 81376.

On January 19, 2022, DOE published a final rule (“January 2022 Final Rule”) revoking the October 2020 Final Rule and the December 2020 Final Rule on the basis that those earlier rules resulted in amended energy conservation standards for the short-cycle product classes, but did not determine whether relevant statutory criteria for amending standards were met. 87 FR 2673. The January 2022 Final Rule reinstated the prior product classes and applicable standards for these covered products. Id.

On March 17, 2022, various States filed a petition in the Fifth Circuit Court of Appeals seeking review of a final rule revoking two final rules that established product classes for residential dishwashers with a cycle time for the normal cycle of 60 minutes or less, top-loading RCWs and certain classes of consumer clothes dryers with a cycle time of less than 30 minutes, and front-loading RCWs with a cycle time of less than 45 minutes (collectively, “short-cycle product classes”). The petitioners argued that the final rule revoking the short-cycle product classes violated EPCA and was arbitrary and capricious. On January 8, 2024, the United States Court of Appeals for the Fifth Circuit granted the petition for review and remanded the matter to DOE for further proceedings consistent with the Fifth Circuit's opinion. See Louisiana v. United States Department of Energy, 90 F.4th 461 (5th Cir. 2024).

In this request for information, DOE is commencing a rulemaking process on remand from the Fifth Circuit (the Remand Proceeding) by soliciting further information, relevant to the issues identified by the Fifth Circuit, regarding any short cycle product classes. DOE intends to use the data and information collected in response to this request for information to conduct the analysis required by 42 U.S.C. 6295(q)(1)(B) to determine whether any short-cycle products have a “capacity or other performance-related feature [that] . . . justifies a higher or lower standard from that which applies (or will apply) to other products. . . .”

The current standards applicable to residential clothes washers, dishwashers, and consumers clothes dryers are in 10 CFR 430.32(g)(4), 10 CFR 430.32(f)(1), and 10 CFR 430.32(h)(3), respectively. In addition, EPCA's anti-backsliding provision precludes DOE from prescribing any amended standard “which increases the maximum allowable energy use” of a covered product. 42 U.S.C. 6295(o)(1).

II. Request for Information and Comments

In this request for information, DOE is soliciting further information, relevant to the issues identified by the Fifth Circuit, regarding short-cycle product classes for dishwashers, RCWs, and consumer clothes dryers. DOE intends to use the data and information collected in response to this request for information to conduct the analysis required by 42 U.S.C. 6295(q)(1)(B) to determine whether short-cycle products should be subject to a different standard than non-short-cycle products.

In this section, DOE has identified specific information and data on which it seeks input regarding “short cycles” for dishwashers, RCWs, and consumer clothes dryers.

As discussed, the October 2020 Final Rule and December 2020 Final Rule established short-cycle product classes for dishwashers with a normal cycle time of 60 minutes or less; top-loading standard-size RCWs with an average cycle time of less than 30 minutes and front-loading standard-size RCWs with an average cycle time of less than 45 minutes; and vented electric standard-size clothes dryers and vented gas clothes dryers with a cycle time of less than 30 minutes. 85 FR 68723; 85 FR 81359, 81360.

Issue 1: DOE requests information on whether manufacturers optimize their dishwasher, RCW, or consumer clothes dryer normal cycles for a target cycle length, and if so, what target cycle times are considered. DOE requests data indicating what a consumer-acceptable cycle time is for the normal cycle in dishwashers, RCWs, and consumer clothes dryers.

Issue 2: DOE requests data indicating how consumers trade off preferences between cycle time and other product characteristics.

As presented in the rulemaking dockets for the October 2020 Final Rule and the December 2020 Final Rule, DOE has previously published the following cycle time data: the results of DOE testing of 31 standard-size dishwashers, including Cleaning Indexes; ⁵ individual test cycle and average cycle time data for 23 top-loading standard-size RCWs and 20 front-loading standard-size RCWs tested by DOE; ⁶ cycle time data for 6 vented electric standard-size and 8 vented gas consumer clothes dryers tested by DOE; ⁷ and cycle time data for an additional 245 vented electric standard-size and 110 vented gas consumer clothes dryers from the ENERGY STAR product database.⁸

⁵ Available at www.regulations.gov/document/EERE-2018-BT-STD-0005-3213.

⁶ Available at www.regulations.gov/document/EERE-2020-BT-STD-0001-0007.

⁷ Ibid.

⁸ Ibid.

Issue 3: DOE requests information on dishwashers, RCWs, and consumer clothes dryers that are currently available on the market with normal cycle times that meet consumer expectations of a short cycle for each product. For any such models, DOE requests data on the energy and water consumption. DOE also requests data and information on whether and how such products contain any unique design attributes or performance characteristics compared to other products with longer normal cycle times, and what drives such differences from a design perspective.

Issue 4: DOE seeks data regarding the historical change in cycle times for dishwashers, RCWs, and consumer clothes dryers.

In addition, DOE notes that most basic models of dishwashers, RCWs, and consumer clothes dryers also provide multiple cycles outside the normal cycle. For instance, a dishwasher may have a quick cycle, heavy cycle, delicates, etc. in addition to the normal cycle. These additional cycles may provide either longer or shorter cycle times than the normal cycle and may also be designed to optimize other performance characteristics or be optimized for different loads than the normal cycle.

Issue 5: For all models, DOE requests comment on how manufacturers design or optimize any shorter cycle(s) on a given model differently than the normal cycle on that same model. DOE further requests information on whether any design or performance tradeoffs are made on these shorter cycles, and if so, what those tradeoffs are and to what extent they differ from the normal cycle.

Issue 6: DOE requests comment on whether manufacturers plan to (or would continue to) maintain two separate product lines—one optimized to meet consumer demand for short cycles, and one optimized for attributes other than cycle time—and if so, DOE requests information on the financial impacts of developing and maintaining two separate product lines instead of one. DOE further requests comment on which product line manufacturers would prioritize, if they decided to offer only a single product line.

Issue 7: DOE requests information on consumer preferences for: (1) a short cycle as the normal cycle and (2) the presence of short cycles available as cycle types outside the normal cycle.

Issue 8: DOE requests historical market information on any dishwashers, RCWs, or consumer clothes dryers that have been advertised or designed to provide a short cycle, and the relevant performance attributes of such products (including but not limited to energy use, water use, and cleaning performance).

Issue 9: For all models, not limited to those designed for a short cycle as the normal cycle, DOE requests data and information about consumer behaviors that affect energy and water consumption, such as pre-washing, handwashing, and running multiple cycles on the same load, and whether and how these behaviors may change according to the cycle selected.

Issue 10: For all models, not limited to those designed for a short cycle as the normal cycle, DOE requests data regarding cycle time and energy and water consumption that would demonstrate whether a separate standard level whether higher or lower should be considered for products with a given cycle length pursuant to 42 U.S.C. 6295(q)(2).

III. Submission of Comments

DOE invites all interested parties to submit in writing by the date specified in the DATES section of this document, comments and information on matters addressed in this document and on other matters relevant to short cycles for dishwashers, RCWs, and consumer clothes dryers.

Submitting comments via www.regulations.gov. The www.regulations.gov web page requires you to provide your name and contact information. Your contact information will be viewable to DOE Building Technologies Office staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. If this instruction is followed, persons viewing comments will see only first and last names, organization names, correspondence containing comments, and any documents submitted with the comments.

Do not submit to www.regulations.gov information for which disclosure is restricted by statute, such as trade secrets and commercial or financial information (hereinafter referred to as Confidential Business Information (“CBI”)). Comments submitted through www.regulations.gov cannot be claimed as CBI. Comments received through the website will waive any CBI claims for the information submitted. For information on submitting CBI, see the Confidential Business Information section.

DOE processes submissions made through www.regulations.gov before posting. Normally, comments will be posted within a few days of being submitted. However, if large volumes of comments are being processed simultaneously, your comment may not be viewable for up to several weeks. Please keep the comment tracking number that www.regulations.gov provides after you have successfully uploaded your comment.

Submitting comments via email, hand delivery/courier, or postal mail. Comments and documents submitted via email, hand delivery/courier, or postal mail also will be posted to www.regulations.gov. If you do not want your personal contact information to be publicly viewable, do not include it in your comment or any accompanying documents. Instead, provide your contact information on a cover letter. Include your first and last names, email address, telephone number, and optional mailing address. The cover letter will not be publicly viewable as long as it does not include any comments.

Include contact information each time you submit comments, data, documents, and other information to DOE. If you submit via postal mail or hand delivery/courier, please provide all items on a CD, if feasible, in which case it is not necessary to submit printed copies. No faxes will be accepted.

Comments, data, and other information submitted to DOE electronically should be provided in PDF (preferred), Microsoft Word or Excel, WordPerfect, or text (ASCII) file format. Provide documents that are not secured, written in English and free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. Pursuant to 10 CFR 1004.11, any person submitting information that he or she believes to be confidential and exempt by law from public disclosure should submit via email two well-marked copies: one copy of the document marked confidential including all the information believed to be confidential, and one copy of the document marked “non-confidential” with the information believed to be confidential deleted. DOE will make its own determination about the confidential status of the information and treat it according to its determination.

It is DOE's policy that all comments may be included in the public docket, without change and as received, including any personal information provided in the comments (except information deemed to be exempt from public disclosure).

DOE considers public participation to be a very important part of the process for developing energy conservation standards. DOE actively encourages the participation and interaction of the public during the comment period in this process. Interactions with and between members of the public provide a balanced discussion of the issues and assist DOE. Anyone who wishes to be added to the DOE mailing list to receive future notices and information about this process or would like to request a public meeting should contact Appliance and Equipment Standards Program staff at (202) 287-1445 or via email at ApplianceStandards Questions@ee.doe.gov.

IV. Approval of the Office of the Secretary

The Secretary of Energy has approved publication of this request for information.

Signing Authority

This document of the Department of Energy was signed on February 29, 2024, by Jeffrey Marootian, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 1, 2024.
Treena V. Garrett,
Federal Register Liaison Officer, U.S. Department of Energy.

[FR Doc. 2024-04772 Filed 3-8-24; 8:45 am]

BILLING CODE 6450-01-P